DEPARTMENT OF AGRICULTURE

Animal and Plant Health Inspection Service

9 CFR Part 94

[Docket No. 00-038-1]

Importation of Bovine Parts From Argentina

AGENCY: Animal and Plant Health Inspection Service, USDA.

ACTION: Interim rule and request for comments.

SUMMARY: We are amending the regulations governing the importation of certain animals, meat, and other animal products by prohibiting the importation from Argentina of any bovine parts that are not, by standard practice, part of a bovine carcass that is placed in a chiller for maturation after slaughter. Items prohibited from importation include all parts of bovine heads, feet, hooves, and internal organs. Additionally, we are requiring that bovines slaughtered for the export of fresh beef from Argentina to the United States undergo ante- and post-mortem inspections for signs of foot-and-mouth disease and that representatives of the Animal and Plant Health Inspection Service be allowed access to the establishments where the bovines are slaughtered. We are also clarifying some provisions of the regulations. We are taking these actions as emergency measures to protect the livestock of the United States from foot-and-mouth disease.

DATES: This interim rule is effective June 28, 2000. We invite you to comment on this docket. We will consider all comments that we receive by August 28, 2000.

ADDRESSES: Please send your comment and three copies to: Docket No. 00-038-1, Regulatory Analysis and Development, PPD, APHIS, Suite 3C03, 4700 River Road, Unit 118, Riverdale, MD 20737-1238.

Please state that your comment refers to Docket No. 00-038-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Gary Colgrove, Director, National Center for Import and Export, VS, APHIS, 4700 River Road Unit 38, Riverdale, MD 20737-1231; (301) 734-4356.

SUPPLEMENTARY INFORMATION:

Background

The regulations in 9 CFR part 94 (referred to below as the regulations) prohibit or restrict the importation of certain animals and animal products into the United States to prevent the introduction of various animal diseases, including rinderpest, foot-and-mouth disease (FMD), African swine fever, hog cholera, and swine vesicular disease. These are dangerous and destructive communicable diseases of ruminants and swine. Section 94.21 of the regulations allows the importation of fresh (chilled or frozen) beef from Argentina, but only under certain conditions, because fresh beef from Argentina that does not meet the required conditions would present an unacceptable risk of introducing FMD into the United States.

Maturation Process

Among the conditions for the importation of fresh beef from Argentina is the requirement in § 94.21(k) of this interim rule (designated as § 94.21(h) prior to this interim rule) that the meat come from bovine carcasses that have been allowed to maturate at 40 to 50 °F (4 to 10 °C) for a minimum of 36 hours after slaughter and that have reached a pH of 5.8 or less in the loin muscle at the end of the maturation period. This provision goes on to state that if the meat does not meet this pH level after 60 hours, it may not be exported to the United States. This requirement is based on the fact that the FMD virus in meat is inactivated by acidification, which occurs naturally during maturation. An acid environment of a pH of 5.8 or less destroys the virus quickly.

Section 94.21, paragraph (i), of this interim rule (designated as § 94.21(i) prior to this interim rule) provides that beef from Argentina may not be exported to the United States unless all bone, blood clots, and lymphoid tissue have been removed from the meat. The removal of these parts is necessary because any FMD virus these parts might potentially harbor may not be inactivated by the maturation process described above.

It has come to our attention that, in some cases, among the bovine parts being imported into the United States from Argentina are those that are not, by standard practice, part of the carcass that is placed in a chiller for maturation after slaughter. In the rule we published in the Federal Register in June 1997 allowing the importation of fresh (chilled or frozen) beef from Argentina (62 FR 34385-34394), it was never our intent that such items be allowed entry into the United States. When we referred to fresh (chilled or frozen) beef in § 94.21, we meant only the traditional cuts of meat obtained from a bovine's carcass, not any part of the animal's head, its feet or hooves, or its internal organs. While portions of a bovine's head, feet, hooves, and internal organs may reach the necessary pH level during the required maturation process, these items can contain lymph tissue and blood clots that may potentially harbor FMD virus that is not inactivated.

Therefore, we are amending § 94.21 to prohibit the importation of any bovine parts that are not, by standard practice, part of the carcass that is placed in a chiller for maturation after slaughter. Included in this prohibition are all parts of bovine heads, feet, hooves, and internal organs.

Ante- and Post-Mortem Inspections

Because FMD has a short incubation period, if animals were infected with FMD at a premises of origin, it is likely that lesions would be visible in at least a few of those animals at the slaughtering establishment prior to slaughter. Similarly, post-mortem inspection of carcasses would be likely to identify any lesions and vesicles in animals infected with FMD. At the time we published our 1997 rule allowing the importation of fresh beef from Argentina, it was standard practice in that country to conduct ante- and post-mortem inspections of cattle at slaughtering establishments, in accordance with the Animal Health Code of the Office International des Epizooties and European Union requirements. Such inspections continue to be conducted as routine procedure.

Because ante- and post-mortem inspections are carried out as standard practice in Argentina, we did not specifically require such inspections in the regulations. However, because of the importance of these inspections in reducing disease risk, we are adding to § 94.21 explicit requirements for ante- and post-mortem inspections of bovines slaughtered for the export of fresh beef from Argentina to the United States.

APHIS Inspection of Slaughtering Establishments

We are also adding to § 94.21, as a condition for the importation of fresh beef from Argentina, that establishments in which the bovines are slaughtered allow periodic APHIS inspection of their facilities, records, and operations. Prior to this interim rule, § 94.21 already required that an authorized official of Argentina certify that the required conditions for importation have been met. We continue to believe that, in the great majority of cases, certification by an authorized official of Argentina that the requirements for importation have been met will be sufficient verification. However, because of the possibility of occasional differing interpretations of the regulations, we consider it advisable to enable APHIS representatives to have access to slaughtering establishments for periodic inspections of the establishments and their records and operations.

Meaning of “Originate”

One of the conditions for the importation of fresh beef from Argentina has been that the beef originate in Argentina. In order to avoid any misunderstanding of our intent regarding the term “originate,” we are specifying in § 94.21(a) that fresh (chilled or frozen) beef to be imported from Argentina must originate from bovines that were born, raised, and slaughtered in Argentina. We consider this change necessary to make it clear that beef exported from Argentina that comes from any animals born, raised, or slaughtered in a country other than Argentina may not be imported into the United States.

Blood Clots and Lymphoid Tissue

As discussed above, one of the requirements for importing fresh beef from Argentina has been the removal from the meat of all bone, blood clots, and lymphoid tissue. Although we continue to consider the removal of these parts necessary, we recognize that meat may contain small portions of blood clots or lymphoid tissue that are not visually identifiable as such. Because such small parts are unlikely to harbor any FMD virus that is not inactivated by the process described above under the heading “Maturation Process,” and because we recognize that it would be difficult, if not impossible, to remove parts of blood clots or lymphoid tissue that are not recognizable as such, we are clarifying in § 94.21(i) that for fresh beef to be imported from Argentina, all bone and visually identifiable blood clots and lymphoid tissue must have been removed from the meat.

Nonsubstantive Changes

In addition to the changes to the regulations discussed above, we are making some nonsubstantive changes to § 94.21. In § 94.21(e) (designated as § 94.21(g) prior to this interim rule), we are simplifying the wording of a condition for importation to state that “[t]he meat came from bovines that have never been vaccinated for rinderpest,” rather than “[t]he meat came from bovines that have not been vaccinated for rinderpest at any time during the lifetime of any of the bovines slaughtered for export of meat,” as was stated prior to this interim rule.

Additionally, we are reordering the sequence of the provisions in § 94.21 as follows: Paragraph (b) as set forth prior to this interim rule becomes paragraph (f); paragraph (c) becomes paragraph (j); paragraph (d) becomes paragraph (c); paragraph (e) becomes paragraph (b); paragraph (f) becomes paragraph (d); paragraph (g) becomes paragraph (e); paragraph (h) becomes paragraph (k); and paragraph (j) becomes paragraph (l).

Emergency Action

The Administrator of the Animal and Plant Health Inspection Service has determined that an emergency exists that warrants publication of this interim rule without prior opportunity for public comment. Immediate action is necessary to protect the livestock of the United States from FMD.

Because prior notice and other public procedures with respect to this action are impracticable and contrary to the public interest under these conditions, we find good cause under 5 U.S.C. 553 to make this action effective less than 30 days after publication. We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. The rule has been determined to be not significant for the purposes of Executive Order 12866 and, therefore, has not been reviewed by the Office of Management and Budget.

This interim rule prohibits the importation of any bovine parts that are not, by standard practice, part of the carcass that is placed in a chiller for maturation after slaughter. It additionally requires ante- and post-mortem inspections of animals from which fresh beef intended for importation into the United States comes, requires that APHIS representatives be allowed access to slaughtering establishments for periodic inspections, and clarifies certain provisions of the regulations.

Bovine Parts

There are many byproducts of beef production, including hide, hooves, tallow, blood meal, bone meal, head meat, tongue, lungs, tripe, and other organs. Parts used as food can be collectively termed edible offal. Exports of edible offal from the United States are over 10 times greater than U.S. imports of these products. This position as a strong net exporter reflects a domestic market in which prices are affected minimally, if at all, by the limited U.S. demand for imports. Canada, Australia, and New Zealand are the major foreign sources of edible offal for the United States, supplying more than 95 percent of the products imported.

Edible offal imports from Argentina in 1998 and 1999, the only years for which such imports are recorded, are relatively small. They totaled 13.8 metric tons and 460.2 metric tons, respectively, and had values of $41,000 and $1,052,000. Although the amount and value of the importations for 1999 show significant increases over 1998, they represent only 1.3 percent of U.S. edible offal imports.

Entities Affected

The entities in the United States most likely to be directly affected by this rule are meatpacking plants that import edible offal from Argentina. While there may be small entities affected by this rule, their number is not known. However, because edible offal imports from Argentina constitute a very small fraction of edible offal imports overall, and because U.S. imports of these products represent less than 10 percent of U.S. exports of such products, the effects of this rule on all entities, large or small, is expected to be insignificant.

Under these circumstances, the Administrator of the Animal and Plant Health Inspection Service has determined that this action will not have a significant impact on a substantial number of small entities.

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This interim rule contains no information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: 7 U.S.C. 147a, 150ee, 161, 162, and 450; 19 U.S.C. 1306; 21 U.S.C. 111, 114a, 134a, 134b, 134c, 134f, 136, and 136a; 31 U.S.C. 9701; 42 U.S.C. 4331 and 4332; 7 CFR 2.22, 2.80, and 371.2(d).

2. Section 94.21 is revised to read as follows:

§ 94.21 Restrictions on importation of beef from Argentina.

Notwithstanding any other provisions of this part, fresh (chilled or frozen) beef from Argentina may be exported to the United States under the following conditions:

(a) The meat is beef from bovines that have been born, raised, and slaughtered in Argentina.

(b) Foot-and-mouth disease has not been diagnosed in Argentina within the previous 12 months.

(c) The meat came from bovines that originated from premises where foot-and-mouth disease and rinderpest have not been present during the lifetime of any bovines slaughtered for the export of meat to the United States.

(d) The meat came from bovines that originated from premises on which ruminants and swine had not been vaccinated with modified or attenuated live viruses for foot-and-mouth disease at any time during the lifetime of the bovines slaughtered for export of meat to the United States.

(e) The meat came from bovines that have never been vaccinated for rinderpest.

(f) The meat came from bovines that were moved directly from the premises of origin to the slaughtering establishment without any contact with other animals.

(g) The meat came from bovines that received ante-mortem and post-mortem veterinary inspections at the slaughtering establishment, with no evidence found of foot-and-mouth disease.

(h) The beef consists only of bovine parts that are, by standard practice, part of the animal's carcass that is placed in a chiller for maturation after slaughter. Bovine parts that may not be imported include all parts of bovine heads, feet, hooves, and internal organs.

(i) All bone and visually identifiable blood clots and lymphoid tissue have been removed from the meat.

(j) The meat has not been in contact with meat from regions other than those listed in § 94.1(a)(2).

(k) The meat came from bovine carcasses that were allowed to maturate at 40 to 50 § F (4 to 10 § C) for a minimum of 36 hours after slaughter and that reached a pH of 5.8 or less in the loin muscle at the end of the maturation period. Any carcass in which the pH does not reach 5.8 or less may be allowed to maturate an additional 24 hours and be retested, and, if the carcass still does not reach a pH of 5.8 or less after 60 hours, the meat from the carcass may not be exported to the United States.

(l) An authorized official of Argentina certifies on the foreign meat inspection certificate that the above conditions have been met.

(m) The establishment in which the bovines are slaughtered allows periodic APHIS inspection of its facilities, records, and operations.

Done in Washington, DC, this 22nd day of June 2000.
Bobby R. Acord,
Acting Administrator, Animal and Plant Health Inspection Service.

[FR Doc. 00-16314 Filed 6-27-00; 8:45 am]

BILLING CODE 3410-34-P